SECURITIES AND EXCHANGE COMMISSION

[File No. 500-1]

In the Matter of FuelNation, Inc. and Sytron, Inc.; Order of Suspension of Trading

November 8, 2006.

It appears to the Securities and Exchange Commission that there is a lack of current and accurate information concerning the securities of FuelNation, Inc. because it has not filed any periodic reports since it filed a Form 10-QSB for the period ended March 31, 2004.

It appears to the Securities and Exchange Commission that there is a lack of current and accurate information concerning the securities of Sytron, Inc. because it has not filed any periodic reports since it filed a Form 10-SB on February 1, 2000.

The Commission is of the opinion that the public interest and the protection of investors require a suspension of trading in the securities of the above-listed companies.

Therefore, it is ordered, pursuant to Section 12(k) of the Securities Exchange Act of 1934, that trading in the above-listed companies is suspended for the period from 9:30 a.m. EST on November 8, 2006, through 11:59 p.m. EST on November 21, 2006.

By the Commission.
Nancy M. Morris,
Secretary.

[FR Doc. 06-9189 Filed 11-8-06; 11:55 am]

BILLING CODE 8011-01-P